DEPARTMENT OF JUSTICE

Notice of Lodging of Proposed Consent Decree Under The Comprehensive Environmental Response, Compensation and Liability Act

On December 20, 2017, the Department of Justice lodged a proposed consent decree (“Decree”) with the United States District Court for the Northern District of New York in the lawsuit entitled United States v. Honeywell International Inc. and Onondaga County, New York, Civil Action No. 5:17-cv-01364-FJS-DEP.

The proposed Decree resolves claims under Section 107(a) of the Comprehensive Environmental Response, Compensation, and Liability Act (“CERCLA”), 42 U.S.C. 9607(a), against Honeywell International Inc. (“Honeywell”) and Onondaga County (“County”) (collectively the “Defendants”) for natural resource damages resulting from the releases of hazardous substances at or from the Defendants' facilities at the Onondaga Lake Superfund Site, located in the City of Syracuse, New York. The proposed Decree provides that Honeywell will (1) implement and maintain 20 restoration projects to restore and protect wildlife habitat and water quality, and increase recreational opportunities at Onondaga Lake; (2) pay $5 million for future restoration projects to be undertaken by the Trustees; (3) pay $500,000.00 toward stewardship activities to protect and maintain restoration projects; and (4) pay $750,000.00 for Trustees' future oversight costs. The proposed Decree also requires that the County will operate, repair, maintain, and monitor five of these restoration projects located on or adjacent to County parklands for 25 years. The Defendants' work and payment obligations under the Decree total more than $26 million.

Appendix A to the proposed Decree is the Final Onondaga Lake Natural Resource Damage Assessment Restoration Plan and Environmental Assessment (“RP/EA”) issued in August 2017. The RP/EA describes the natural resource injuries and associated losses and outlines the 20 restoration projects. The plan also includes responses to oral and written comments received from the public on the draft plan during a 90-day public comment period, which included four public meetings and one public hearing held during the spring 2017. The final RP/EA is available at http://www.fws.gov/northeast/nyfo/ec/onondaga.htm

The publication of this notice opens a period for public comment on the proposed Decree. Comments should be addressed to the Assistant Attorney General, Environment and Natural Resources Division, and should refer to United States v. Honeywell International Inc. and Onondaga County, New York, D.J. Ref. No. 90-11-3-08348/1. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Decree may be examined and downloaded at this Justice Department website: https://www.justice.gov/enrd/consent-decrees. We will provide a paper copy of the Decree upon written request and payment of reproduction costs. Please mail your request and payment to: Consent Decree Library U.S. DOJ-ENRD P.O. Box 7611, Washington, DC 20044-7611.

Please enclose a check or money order for $93.75 (25 cents per page reproduction cost) payable to the United States Treasury. For a paper copy of the Decree without the appendices the cost is $12.75.

Robert E. Maher, Jr.,
Assistant Section Chief, Environmental Enforcement Section, Environment and Natural Resources Division.

[FR Doc. 2017-27817 Filed 12-26-17; 8:45 am]

BILLING CODE 4410-15-P